DEPARTMENT OF ENERGY

Federal Energy Regulatory Commission

[Docket No. EL04-56-001, et al.]

New York Independent System Operator, Inc., et al.; Electric Rate and Corporate Filings

May 4, 2004.

The following filings have been made with the Commission. The filings are listed in ascending order within each docket classification.

1. New York Independent System Operator, Inc.

[Docket No. EL04-56-001]

Take notice that on April 26, 2004, the New York Independent System Operator, Inc. (NYISO), pursuant to the Commission's order issued March 26, 2004 in Docket No. EL04-56-000, filed proposed revisions to its Open Access Transmission Tariff (OATT) to amend the Wholesale TSC Calculation Information in the OATT for New York State Electric & Gas Corporation to reflect a Commission-approved Stipulation and Agreement in Docket No. EL04-56-000.

The NYISO states that it has served a copy of this filing to all parties that have executed Service Agreements under the NYISO's OATT or Services Tariff, the New York State Public Services Commission and to the electric utility regulatory agencies in New Jersey and Pennsylvania.

Comment Date: May 17, 2004.

2. Southern California Edison Company

[Docket No. ER03-549-004]

Take notice that on April 26, 2004, Southern California Edison Company (SCE) tendered for filing a refund report in compliance with the Order Approving Uncontested Settlement issued by the Commission issued March 26, 2004, in Docket No. ER03-549-003 (106 FERC ¶ 61,308).

SCE states that copies of this filing were served upon the Public Utilities Commission of the State of California and the Southern California Water Company.

Comment Date: May 17, 2004.

3. PJM Interconnection, L.L.C.

[Docket No. ER03-1086-003]

Take notice that on April 23, 2004, PJM Interconnection, L.L.C. (PJM) submitted for filing a response to the questions posed by the Commission's Office of Markets, Tariffs, and Rates in a letter issued on April 8, 2004 in Docket No. ER03-1086-001.

Comment Date: May 14, 2004.

4. ISO New England Inc.

[Docket No. ER04-121-002]

Take notice that on April 26, 2004, ISO New England Inc. submitted its compliance filing in response to the Commission's order issued March 25, 2004, Order in Docket No. ER04-121-000.

ISO-NE states that copies of the filing have been served on all parties to this proceeding, NEPOOL Participants, all non-Participant entities that are customers under the NEPOOL Open Access Transmission Tariff, and the utility regulatory agencies of the six New England States.

Comment Date: May 17, 2004.

5. Bangor Hydro-Electric Company; Central Maine Power Company; Fitchburg Gas and Electric Light Company; Maine Electric Power Company; New England Power Company; Northeast Utilities Service Company, on behalf of The Connecticut Light and Power Company, Western Massachusetts Electric Company, Public Service Company of New Hampshire, Holyoke Power and Electric Company, and Holyoke Water Power Company NSTAR Electric and Gas Corporation, on behalf of Boston Edison Company, Cambridge Electric Light Company, and Commonwealth Electric Company; The United Illuminating Company; Unitil Energy Systems, Inc.; Vermont Electric Power Company

[Docket No. ER04-432-001]

Take notice, that on April 26, 2004, in compliance with Order No. 2003-A, Standardization of Generator Interconnection Agreements and Procedures, FERC Stats. & Regs. Preambles ¶ 31,160 (2004), the New England Transmission Owners, listed in the caption above, jointly submitted revisions to their Open Access Transmission Tariffs for Local Network Service incorporating, with proposed regional variations, Order No. 2003-A's pro forma Standardized Large Generator Interconnection Procedures and Standardized Large Generator Interconnection Agreement.

Comment Date: May 17, 2004.

6. New England Power Pool

[Docket No. ER04-433-001]

Take notice, that on April 26, 2004, the New England Power Pool (NEPOOL) Participants Committee submitted for filing amendments to the NEPOOL Open Access Transmission Tariff designed to modify NEPOOL's standardized generator interconnection procedures and standardized generator interconnection agreement contained in Schedule 22 to the NEPOOL Tariff to comply with Order No. 2003-A, Standardization of Generator Interconnection Agreements and Procedures.

The NEPOOL Participants Committee states that copies of the materials were sent to the NEPOOL Participants, Non-Participant Transmission Customers and the New England state governors and regulatory commissions.

Comment Date: May 17, 2004.

7. Idaho Power Company

[Docket No. ER04-437-001]

Take notice, that on April 27, 2004, in compliance with Order No. 2003-A, Standardization of Generator Interconnection Agreements and Procedures, Idaho Power Company tendered for filing Attachment J to its revised Open Access Transmission Tariff, FERC Electric Tariff First Revised Volume No. 1.

Idaho Power Company states that this filing has been served on the parties to the official Service List for Docket No. ER04-437-000 and the Idaho Public Utilities Commission.

Comment Date: May 18, 2004.

8. California Independent System Operator Corporation

[Docket No. ER04-445-002]

Take notice that on April 26, 2004, California Independent System Operator Corporation (ISO) pursuant to section 205 of the Federal Power Act and section 35.13 of the Commission Regulations, submitted for filing its revised Standard Large Generator Interconnection Procedures in compliance with Order No. 2003-A.

Comment Date: May 17, 2004.

9. California Independent System Operator Corporation; Pacific Gas and Electric Company; San Diego Gas and Electric Company; and Southern California Edison Company

[Docket Nos. ER04-445-003, ER04-435-003, ER04-441-002, ER04-443-002]

Take notice that on April 26, 2004, California Independent System Operator Corporation, Pacific Gas and Electric Company, San Diego Gas and Electric Company, and Southern California Edison Company (collectively the Filing Parties) pursuant to section 205 of the Federal Power Act and § 35.13 of the Commission Regulations, jointly submitted for filing a revised Standard Large Generator Interconnection Agreement in compliance with Order No. 2003-A. The Filing Parties state that the Standard Large Generator Interconnection Agreement is intended to function as a stand alone pro forma agreement and is not intended to be incorporated into the tariffs of any of the Filing Parties.

Comment Date: May 17, 2004.

10. New York Independent System Operator, Inc.

[Docket No. ER04-449-002]

Take notice, that on April 26, 2004, the New York Independent System Operator, Inc. (NYISO) and the New York Transmission Owners jointly submitted for filing revised standard interconnection procedures and a standard interconnection agreement to comply with Order No. 2003-A, Standardization of Generator Interconnection Agreements and Procedures.

The NYISO states that it has served a copy of this filing on all parties in ER04-449-000 and upon all parties that have executed Service Agreements under the NYISO's Open-Access Transmission Tariff or Services Tariff, the New York State Public Service Commission and to the electric utility regulatory agencies in New Jersey and Pennsylvania.

Comment Date: May 17, 2004.

11. Southern Company Services, Inc.

[Docket No. ER04-459-001]

Take notice, that on April 28, 2004, Southern Company Services, Inc. (SCS), on behalf of Alabama Power Company, Georgia Power Company, Gulf Power Company, Mississippi Power Company and Savannah Electric and Power Company submitted a compliance filing pursuant to the Commission's March 29, 2004, order in Southern Company Services, Inc., 106 FERC ¶ 61,311 (2004) and Order No. 2003-A, Standardization of Generator Interconnection Agreements and Procedures, 106 FERC ¶ 61,220 (2004). SCS states that the compliance filing also includes SCS's proposed study procedures for Network Resource Interconnection Service.

Comment Date: May 19, 2004.

12. CalPeak Power—El Cajon, LLC

[Docket No. ER04-517-002]

Take notice, that on April 28, 2004, CalPeak Power LLC, on behalf of CalPeak Power—El Cajon, LLC (El Cajon), submitted a compliance filing pursuant to the Commission's order issued April 15, 2004 in Docket Nos. ER04-517-000 and 001 regarding a Must-Run Service Agreement between El Cajon and the California Independent System Operator Corporation.

Comment Date: May 19, 2004.

13. Illinois Power Company

[Docket No. ER04-552-001]

Take notice, that on April 28, 2004, Illinois Power Company (Illinois Power) tendered for filing Second Revised Sheet No. 10 and First Revised Sheet No. 180 through First Revised Sheet No. 346 to Illinois Power's FERC Electric Tariff Third Revised Volume No. 8, to include the pro forma Large Generator Interconnection Procedures and the Large Generator Interconnection Agreement in its Open Access Transmission Tariff as required by Order No. 2003-A, Standardization of Generator Interconnection Agreements and Procedures. Illinois Power has requested an effective date of April 26, 2004.

Comment Date: May 19, 2004.

14. Southern Company Services, Inc.

[Docket No. ER04-565-001]

Take notice that on April 27, 2004, Southern Electric Generating Company (SEGCo), Alabama Power Company (Alabama), and Georgia Power Company (Georgia) (collectively, Southern Companies), in response to the Commission's deficiency letter issued April 13, 2004, filed an amendment to their February 17, 2004, filing regarding an amendment to the power contract between SEGCO, Alabama and Georgia.

Comment Date: May 18, 2004.

15. Midwest Independent Transmission System Operator, Inc. and Ameren Services Company

[Docket No. ER04-571-002]

Take notice that on April 26, 2004, the Midwest Independent Transmission System Operator, Inc. (Midwest ISO), pursuant to the Commission's order issued March 25, 2004, in Docket No. ER04-571-000, submitted for filing an Agreement for the Provision of Transmission Service to Bundled Retail Load between the Midwest ISO and Ameren Services Company, as agent for Union Electric Company, d/b/a AmerenUE (the Service Agreement).

The Midwest ISO states that it has electronically served a copy of this filing, with attachments, upon all Midwest ISO Members, Member representatives of Transmission Owners and Non-Transmission Owners, the Midwest ISO Advisory Committee participants, as well as all state commissions within the region. In addition, Midwest states that the filing has been electronically posted on the Midwest ISO's Web site at http://www.midwestiso.org under the heading “Filings to FERC” for other interested parties in this matter. The Midwest ISO also states that it will provide hard copies to any interested parties upon request.

Comment Date: May 17, 2004.

16. MidAmerican Energy Company

[Docket No. ER04-583-001]

Take notice that on April 27, 2004, MidAmerican Energy Company (MidAmerican), submitted a compliance filing pursuant to the Commission's letter order issued March 30, 2004, regarding an Emergency Electric Interconnection and Operating Agreement between MidAmerican and East River Electric Power Cooperative, incorporating the First Amendment to the Agreement dated January 26, 2004.

MidAmerican states that a copy of the filing has been served on the Iowa Utilities Board, the Illinois Commerce Commission and the South Dakota Public Utilities Commission.

Comment Date: May 18, 2004.

17. Southern Company Services, Inc.

[Docket No. ER04-591-001]

Take notice that on April 27, 2004, Southern Company Services, Inc. (SCS) by and on behalf of Alabama Power Company, Georgia Power Company, Mississippi Power Company, Gulf Power Company and Savannah Electric and Power Company (collectively, Southern Companies), pursuant to the Commission's deficiency letter issued April 13, 2004, filed an amendment to their February 27, 2004, filing regarding a series of bilateral amendments to certain unit power sales agreements with Florida Power and Light Company, Florida Power Corporation and Jacksonville Electric Authority.

Comment Date: May 18, 2004.

18. Mystic I, LLC

[Docket No. ER04-657-001]

Take notice, that on April 28, 2004, Mystic I, LLC (Mystic I) filed revisions to its market-based rate wholesale power sales tariff to conform the tariff to the Commission's requirements and to fix some minor formatting errors. Mystic I has requested an effective date of January 22, 2004.

Comment Date: May 19, 2004.

19. Fore River Development, LLC

[Docket No. ER04-659-001]

Take notice, that on April 28, 2004, Fore River Development, LLC filed revisions to its market-based rate wholesale power sales tariff to conform the tariff to the Commission's requirements and to fix some minor formatting errors.

Comment Date: May 19, 2004.

20. Mystic Development, LLC

[Docket No. ER04-660-001]

Take notice, that on April 28, 2004, Mystic Development, LLC (Mystic Development) filed revisions to its market-based rate wholesale power sales tariff to conform the tariff to the Commission's requirements and to fix some minor formatting errors. Mystic Development has requested an effective date of January 22, 2004.

Comment Date: May 19, 2004.

21. Aleph One, Inc.

[Docket No. ER04-686-001]

Take notice that on April 26, 2004, Aleph One, Inc. (Aleph One) submitted an amendment to its March 30, 2004 application for the Commission to accept for filing Aleph One's Rate Schedule FERC No. 1 (Rate Schedule No. 1). Aleph One requests that the Commission grant Aleph One the blanket authority to make market-based sales of energy and capacity under its Rate Schedule No. 1 and grant Aleph One such waivers and authorizations as have been granted by the Commission to other entities authorized to transact at market-based rates.

Comment Date: May 17, 2004.

22. Westar Energy, Inc.

[Docket No. ER04-759-000]

Take notice that on April 26, 2004, Westar Energy, Inc. (Westar) submitted for filing an amendment to the Electric Interconnection Agreement between Westar Energy, Inc. and the Kansas City Power & Light Company (KCPL) to establish three additional 12 kV delivery points in the Lenexa, Kansas area. Westar requests an effective date of April 30, 2004.

Westar states that a copy of this filing was served upon the Kansas Corporation Commission and KCPL.

Comment Date: May 17, 2004.

23. Cold Springs Creek, LLC

[Docket No. ER04-762-000]

Take notice that on April 26, 2004, Cold Springs Creek, LLC (Cold Springs) submitted for filing a Notice of Cancellation of its Market-Based Rate Authority, Rate Schedule FERC No. 1. Cold Springs has requested an effective date of April 21, 2004.

Comment Date: May 17, 2004.

24. Entergy Services, Inc.

[Docket No. ER04-763-000]

Take notice that on April 26, 2004, Entergy Services, Inc., (Entergy) on behalf of Entergy Arkansas, Inc., Entergy Gulf States, Inc., Entergy Louisiana, Inc., Entergy Mississippi, Inc., and Entergy New Orleans, Inc., filed proposed modifications to the Commission's Standard Large Generator Interconnection Procedures that are justified by existing and established regional reliability standards applicable to Entergy's service territory pursuant to the Commission's Order No. 2003-A, Standardization of Generator Interconnection Agreements and Procedures.

Comment Date: May 17, 2004.

25. South Carolina Electric & Gas Company

[Docket No. ER04-764-000]

Take notice that on April 26, 2004, South Carolina Electric & Gas Company (SCE&G) filed with the Commission revisions to its Open Access Transmission Tariff in order to incorporate modifications to the pro forma Large Generator Interconnection Procedures pursuant to Order No. 2003-A, Standardization of Generator Interconnection Agreements and Procedures.

Comment Date: May 17, 2004.

26. University Park Energy, LLC

[Docket No. ER04-765-000]

Take notice that on April 26, 2004, University Park Energy, LLC (University Park) tendered for filing, under section 205 of the Federal Power Act, its proposed FERC Electric Tariff, Original Volume No. 3, for reactive supply and voltage control from generation sources service provided to the transmission facilities that will be controlled by the PJM Interconnection, L.L.C. (PJM) upon the transfer of operational control of Commonwealth Edison Company's (ComEd) transmission system to PJM. University Park respectfully requests that the Commission accept the proposed Tariff for filing to become effective on the date when operational control of the ComEd transmission system is transferred to PJM.

University Park states that it has mailed a copy of this filing to PJM.

Comment Date: May 17, 2004.

27. Midwest Independent Transmission System Operator, Inc.

[Docket No. ER04-766-000]

Take notice that on April 27, 2004, pursuant to section 205 of the Federal Power Act and § 35.15 of the Commission's regulations, the Midwest Independent Transmission System Operator, Inc. (Midwest ISO) submitted for filing an executed First Revised Interconnection and Operating Agreement among Valley Queen Cheese Factory, Inc., the Midwest ISO and Otter Tail Power Company. Midwest ISO requests an effective date of April 26, 2004.

Comment Date: May 18, 2004.

28. PacifiCorp

[Docket No. ER04-767-000]

Take notice that on April 27, 2004, PacifiCorp tendered for filing revisions to PacifiCorp's Open Access Transmission Tariff in compliance with Order No. 2003-A, Standardization of Generator Interconnection Agreements and Procedures. PacifiCorp requests an effective date of January 20, 2004.

PacifiCorp states that copies of this filing were supplied to the Public Utility Commission of Oregon, the Washington Utilities and Transportation Company and PacifiCorp's Network customers.

Comment Date: May 18, 2004.

29. El Paso Electric Company

[Docket No. ER04-768-000]

Take notice that on April 27, 2004, El Paso Electric Company (EPE) tendered for filing a Notice of Cancellation of EPE's Electric Rate Schedule No. 57 between EPE and Texas-New Mexico Power Company. EPE requests an effective date of December 31, 2002.

Comment Date: May 18, 2004.

30. PJM Interconnection, L.L.C.

[Docket No. ER04-769-000]

Take notice that on April 27, 2004, PJM Interconnection, L.L.C. (PJM) submitted for filing notice of NUI Energy Broker's (NUIEB) withdrawal from membership in PJM, a notice of cancellation of NUIEB's non-firm point-to-point service agreement, and a revised Schedule 12 of the Amended and Restated Operating Agreement of PJM Interconnection, L.L.C. deleting NUIEB from the list of PJM members. PJM requests an effective date of May 18, 2004.

PJM states that copies of the filing were served on all PJM members, including NUIEB, and each state electric utility regulatory commission in the PJM region.

Comment Date: May 18, 2004.

31. The United Illuminating Company

[Docket No. ER04-770-000]

Take notice that on April 27, 2004, pursuant to section 205 of the Federal Power Act and Part 35 of the Commission's regulations, The United Illuminating Company (United Illuminating) tendered for filing an Agreement for Supplemental Installed Capacity—Southwest Connecticut (LRP Resources) Between ISO New England Inc., as agent for the Marked Participants in the New England Control Area and United Illuminating. United Illuminating requests an effective date of May 31, 2004.

Comment Date: May 18, 2004.

32. Midwest Independent Transmission System Operator, Inc.

[Docket No. ER03-787-002]

Take notice that on April 26, 2004, Midwest Independent Transmission System Operator, Inc. (Midwest ISO) pursuant to section 205 of the Federal Power Act and section 35.13 of the Commission's regulations, 18 CFR 35.13 (2003), submitted for filing a fully executed second revised Interconnection and Operating Agreement among Flying Cloud Power Partners, LLC, the Midwest ISO and Interstate Power and Light Company, a wholly owned subsidiary of Alliant Energy. Midwest ISO has requested a March 31, 2003, effective date.

Midwest ISO states that a copy of this filing was served on all parties.

Comment Date: May 17, 2004.

33. Orlando Utilities Commission

[Docket No. NJ04-4-000]

Take notice, that on April 27, 2004, the Orlando Utilities Commission (OUC) filed revisions to its non-jurisdictional open access transmission tariff to incorporate non-jurisdictional Large Generator Interconnection Procedures, a Large Generator Interconnection Agreement, and OUC's Interconnection Guide to comply with Order Nos. 2003 and 2003-A, Standardization of Generator Interconnection Agreements and Procedures. OUC has requested an effective date of April 26, 2004.

Comment Date: May 27, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the Comment Date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1099 Filed 5-12-04; 8:45 am]

BILLING CODE 6717-01-P